DEPARTMENT OF ENERGY

Federal Energy Regulatory Commission

Combined Notice of Filings #1

Take notice that the Commission received the following exempt wholesale generator filings:

Docket Numbers: EG24-33-000.

Applicants: Pleasant Valley Solar LLC.

Description: Pleasant Valley Solar LLC submits Notice of Self-Certification of Exempt Wholesale Generator Status.

Filed Date: 11/21/23.

Accession Number: 20231121-5011.

Comment Date: 5 p.m. ET 12/12/23.

Docket Numbers: EG24-34-000.

Applicants: Flat Ridge 4 Wind, LLC.

Description: Flat Ridge 4 Wind, LLC submits Notice of Self-Certification of Exempt Wholesale Generator Status.

Filed Date: 11/21/23.

Accession Number: 20231121-5118.

Comment Date: 5 p.m. ET 12/12/23.

Docket Numbers: EG24-35-000.

Applicants: Flat Ridge 4 Wind Holdings LLC.

Description: Flat Ridge 4 Wind Holdings LLC submits Notice of Self-Certification of Exempt Wholesale Generator Status.

Filed Date: 11/21/23.

Accession Number: 20231121-5119.

Comment Date: 5 p.m. ET 12/12/23.

Docket Numbers: EG24-36-000.

Applicants: Flat Ridge 5 Wind Energy LLC.

Description: Flat Ridge 5 Wind Energy LLC submits Notice of Self-Certification of Exempt Wholesale Generator Status.

Filed Date: 11/21/23.

Accession Number: 20231121-5121.

Comment Date: 5 p.m. ET 12/12/23.

Docket Numbers: EG24-37-000.

Applicants: Flat Ridge 5 Wind Energy Holdings LLC.

Description: Flat Ridge 5 Wind Energy Holdings LLC submits Notice of Self-Certification of Exempt Wholesale Generator Status.

Filed Date: 11/21/23.

Accession Number: 20231121-5124.

Comment Date: 5 p.m. ET 12/12/23.

Take notice that the Commission received the following Complaints and Compliance filings in EL Dockets:

Docket Numbers: EL23-57-006.

Applicants: Lee County Generating Station, LLC v. PJM Interconnection, L.L.C.

Description: Joint Request of PJM & Lee County Generating Station, LLC for Further Waiver of Tariff Provisions.

Filed Date: 11/17/23.

Accession Number: 20231117-5263.

Comment Date: 5 p.m. ET 12/8/23.

Docket Numbers: EL24-25-000.

Applicants: City of Tacoma, Department of Public Utilities, Light Division v. California Independent System Operator Corporation.

Description: Complaint of the City of Tacoma, Department of Public Utilities, Light Division v. California Independent System Operator Corporation.

Filed Date: 11/21/23.

Accession Number: 20231121-5116.

Comment Date: 5 p.m. ET 12/11/23.

Take notice that the Commission received the following electric rate filings:

Docket Numbers: ER22-2584-000.

Applicants: Greeley Energy Facility, LLC.

Description: Supplement to August 1, 2022, Greeley Energy Facility, LLC submits tariff filing, Notice of Change in Status.

Filed Date: 11/20/23.

Accession Number: 20231120-5226.

Comment Date: 5 p.m. ET 12/11/23.

Docket Numbers: ER23-1783-002.

Applicants: New York Independent System Operator, Inc.

Description: Compliance filing: NYISO Compliance Filing re: Order 676-J NAESB/WEQ Standards to be effective 2/1/2024.

Filed Date: 11/21/23.

Accession Number: 20231121-5161.

Comment Date: 5 p.m. ET 12/12/23.

Docket Numbers: ER23-2947-001.

Applicants: Midcontinent Independent System Operator, Inc., Montana-Dakota Utilities Co.

Description: Tariff Amendment: Midcontinent Independent System Operator, Inc. submits tariff filing per 35.17(b): 2023-11-21_Amendment MDU Depreciation Rates related to Retail Rates to be effective 12/31/9998.

Filed Date: 11/21/23.

Accession Number: 20231121-5040.

Comment Date: 5 p.m. ET 12/12/23.

Docket Numbers: ER24-26-001.

Applicants: East Point Energy Center, LLC.

Description: Tariff Amendment: Amendment to Market-Based Rate Authorization Request (ER24-26) to be effective 1/18/2024.

Filed Date: 11/21/23.

Accession Number: 20231121-5134.

Comment Date: 5 p.m. ET 12/12/23.

Docket Numbers: ER24-451-000.

Applicants: PJM Interconnection, L.L.C.

Description: § 205(d) Rate Filing: Amendment to ISA, Service Agreement No. 4082; Queue No. AD2-112 to be effective 1/22/2024.

Filed Date: 11/21/23.

Accession Number: 20231121-5001.

Comment Date: 5 p.m. ET 12/12/23.

Docket Numbers: ER24-452-000.

Applicants: Southwest Power Pool, Inc.

Description: § 205(d) Rate Filing: 2825R11 KMEA and Evergy Kansas Central Meter Agent Agreement to be effective 12/1/2023.

Filed Date: 11/21/23.

Accession Number: 20231121-5009.

Comment Date: 5 p.m. ET 12/12/23.

Docket Numbers: ER24-453-000.

Applicants: PJM Interconnection, L.L.C.

Description: Tariff Amendment: Notice of Cancellation of ISA, SA No. 6225; Queue Nos. AA1-111/AB1-092 et al to be effective 1/22/2024.

Filed Date: 11/21/23.

Accession Number: 20231121-5026.

Comment Date: 5 p.m. ET 12/12/23.

Docket Numbers: ER24-454-000.

Applicants: Mountain Top Energy LLC.

Description: Baseline eTariff Filing: Market-Based Rate Tariff Application to be effective 11/22/2023.

Filed Date: 11/21/23.

Accession Number: 20231121-5055.

Comment Date: 5 p.m. ET 12/12/23.

Docket Numbers: ER24-455-000.

Applicants: Electree LLC.

Description: Baseline eTariff Filing: Market-Based Rate Tariff Application to be effective 11/22/2023.

Filed Date: 11/21/23.

Accession Number: 20231121-5057.

Comment Date: 5 p.m. ET 12/12/23.

Docket Numbers: ER24-456-000.

Applicants: Navajo Tribal Utility Authority.

Description: Petition for Waiver of Navajo Tribal Utility Authority.

Filed Date: 11/20/23.

Accession Number: 20231120-5219.

Comment Date: 5 p.m. ET 11/27/23.

Docket Numbers: ER24-457-000.

Applicants: Georgia Power Company.

Description: § 205(d) Rate Filing: GPCo 2023 PBOP Filing to be effective 1/1/2023.

Filed Date: 11/21/23.

Accession Number: 20231121-5123.

Comment Date: 5 p.m. ET 12/12/23.

Docket Numbers: ER24-458-000.

Applicants: PJM Interconnection, L.L.C.

Description: § 205(d) Rate Filing: Amendment to ISA, Service Agreement No. 5159; Queue No. AB2-040 to be effective 1/22/2024.

Filed Date: 11/21/23.

Accession Number: 20231121-5125.

Comment Date: 5 p.m. ET 12/12/23.

Docket Numbers: ER24-459-000.

Applicants: Mississippi Power Company.

Description: § 205(d) Rate Filing: MPCo PBOP 2023 Filing to be effective 1/1/2023.

Filed Date: 11/21/23.

Accession Number: 20231121-5127.

Comment Date: 5 p.m. ET 12/12/23.

Docket Numbers: ER24-460-000.

Applicants: Southern Electric Generating Company.

Description: § 205(d) Rate Filing: SEGCo 2023 PBOP Filing to be effective 1/1/2023.

Filed Date: 11/21/23.

Accession Number: 20231121-5129.

Comment Date: 5 p.m. ET 12/12/23.

Docket Numbers: ER24-461-000.

Applicants: PJM Interconnection, L.L.C.

Description: § 205(d) Rate Filing: Peak Market Activity Credit Requirement Enhancements to be effective 1/22/2024.

Filed Date: 11/21/23.

Accession Number: 20231121-5135.

Comment Date: 5 p.m. ET 12/12/23.

Docket Numbers: ER24-462-000.

Applicants: PJM Interconnection, L.L.C.

Description: § 205(d) Rate Filing: Proposal to Establish a Fifth Cost of New Entry Area to be effective 1/22/2024.

Filed Date: 11/21/23.

Accession Number: 20231121-5144.

Comment Date: 5 p.m. ET 12/12/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 21, 2023.
Debbie-Anne A. Reese,
Deputy Secretary.

[FR Doc. 2023-26168 Filed 11-27-23; 8:45 am]

BILLING CODE 6717-01-P